DEPARTMENT OF LABOR

Veterans' Employment and Training Service

Homeless Veterans' Reintegration Program (HVRP) Grants to Intermediaries for Program Year 2004

Federal Agency: U.S. Department of Labor, Veterans' Employment and Training Service.

Funding Opportunity: Homeless Veterans' Reintegration Program (HVRP) Grants to Intermediaries for Program Year 2004.

Announcement Type: Initial Solicitation for Grant Applications (SGA).

Funding Opportunity Number: SGA 04-05.

Catalogue of Federal Domestic Assistance #: 17-805.

Dates: Applications are due on May 13, 2004.

Period of Performance is Program Year (PY) 2004, July 1, 2004, through June 30, 2005.

Executive Summary (Applicants For Grant Funds Should Read This Notice In Its Entirety): The U.S. Department of Labor (USDOL), Veterans' Employment and Training Service (VETS), announces a grant competition that complies with the requirements of 38 U.S.C. 2021, as added by section 5 of Public Law 107-95, the Homeless Veterans Comprehensive Assistance Act of 2001 (HVCAA). Section 2021 requires the Secretary of Labor to conduct, directly or through grant or contract, such programs as the Secretary determines appropriate to expedite the reintegration of homeless veterans into the labor force.

The Homeless Veterans' Reintegration Program (HVRP) is making grants in three (3) categories: urban, non-urban, and a new category being introduced this year— “intermediaries.” Separate Solicitations for Grant Applications (SGAs) are being issued for each grant category. This is the solicitation for HVRP grants for “Intermediaries.” The results of these three (3) separately competed grant categories will provide valuable information on approaches and techniques that work in the different environments.

Grants to Intermediaries are intended to address two overall objectives: (1) To coordinate efforts in order to collectively provide services to assist in reintegrating homeless veterans into meaningful employment within the labor force, and (2) to stimulate the development of effective service delivery systems that will address the complex problems facing homeless veterans. In achieving the HVRP grant objectives, the intermediary is expected to sub-award a substantial portion of its grant award to eligible local grass-roots organizations. Applicants and their sub-awardees/contractors will coordinate efforts in order to design programs that assist homeless veterans by collectively ensuring that they receive job placement services, job training, counseling, supportive services, and other assistance to expedite the reintegration of homeless veterans into the labor force. It is anticipated that “intermediaries” with established connections and working relationships to grassroots faith-based and community organizations will connect those smaller organizations and the people they serve to the local employment service delivery system for some of these services. These programs are to be designed to be flexible in addressing the universal as well as the local or regional problems that have had a negative impact on homeless veterans reentering the workforce.

Under this solicitation covering Fiscal Year (FY) 2004, VETS anticipates that up to $1,500,000 will be available for grant awards up to a maximum of $250,000 each. This notice contains all of the necessary information and forms to apply for grant funding. The period of performance for these Program Year 2004 grants will be July 1, 2004 through June 30, 2005. Two (2) optional years of funding may be available, depending upon Congressional funding appropriations, the agency's decision to exercise the optional year(s) of funding, and satisfactory grantee performance.

I. Funding Opportunity Description

The U.S. Department of Labor (USDOL), Veterans' Employment and Training Service (VETS), announces a grant competition that complies with the requirements of 38 U.S.C. 2021, as added by section 5 of Public Law 107-95, the Homeless Veterans Comprehensive Assistance Act of 2001 (HVCAA). Section 2021 requires the Secretary of Labor to conduct, directly or through grant or contract, such programs as the Secretary determines appropriate to expedite the reintegration of homeless veterans into the labor force.

1. Program Concept and Emphasis

This Solicitation for Grant Applications (SGA) seeks to make grants to “intermediary” organizations with established connections to and working relationships with grassroots faith-based and community organizations and that have the ability to connect those smaller organizations and the people they serve to the local employment service delivery system. HVRP grants to intermediaries are intended to address two overall objectives: (a) To coordinate efforts in order to collectively provide services to assist in reintegrating homeless veterans into meaningful employment within the labor force, and (b) to stimulate the development of effective service delivery systems that will address the complex problems facing homeless veterans.

In achieving the HVRP grant overall objectives, the intermediary is expected to provide a substantial portion of its award to eligible local grass-roots organizations through sub-awards/contracts. In their collaboration, the intermediaries will achieve the following objectives:

• Organize collaboration between local grass-roots organizations and the local employment service delivery system to assist homeless veterans in reentering the workforce by leveraging the resources of both faith-based and community organizations and the local employment service delivery system.

• Expand the access of faith-based and community organization clients and customers to the training, employment opportunities, and employment services offered by the local employment service delivery system.

• Thoroughly document the impact and outcomes of these grant investments through quarterly, annual, and follow-up reporting.

Under this Program Year 2004 HVRP competition, eligible “intermediaries” are defined as State and Local Workforce Investment Boards, local public agencies, for-profit/commercial entities, and non-profit organizations including faith-based and community organizations. For the purposes of this announcement, the eligible local grassroots organizations to which sub-awards/contracts must be made must be non-profit organizations that:

• Have social services as a major part of their mission; and

• Are headquartered in the local community to which they provide these services; and

• Have a total annual operating budget of $300,000 or less or have seven (7) or fewer full-time equivalent employees.

The intermediary will assist the sub-awardees/contractors, as appropriate, in administrative tasks so that maximum efforts can be focused on providing supportive services and employment assistance to homeless veterans. VETS' encourages and expects the intermediary's staff to provide mentoring and technical assistance to build the smaller organizations' capacity to be a permanent contributor to the local employment service delivery system.

For this Fiscal Year (FY) 2004 grant solicitation, VETS seeks applicants that will collectively provide direct services through a case management approach that networks with Federal, State, and local resources for veteran support programs. Successful applicants will have clear strategies for employment and retention of employment for homeless veterans. Successful applicants' and their grass-roots organization sub-awardees/contractors will collaborate efforts in order to design programs that assist homeless veterans by collectively ensuring the provision of job placement services, job training, counseling, supportive services, and other assistance to expedite the reintegration of homeless veterans into the labor force. Successful applicants will also design programs that are flexible in addressing the universal as well as the local or regional problems that have had a negative impact on homeless veterans reentering the workforce. The HVRP in FY 2004 will seek to continue to strengthen development of effective delivery systems, to provide comprehensive services through a case management approach that addresses complex problems facing homeless veterans trying to transition into gainful employment, and to improve strategies for employment and retention in employment.

2. Community Awareness Activities

In order to promote networking between the HVRP funded program and local service providers (and thereby eliminate gaps or duplication in services and enhance the provision of assistance to participants), the grantee and/or sub-awardees/contractors collectively must provide project orientation workshops and program awareness activities that it determines are the most feasible for the types of providers listed below. Grantees are encouraged to demonstrate strategies for incorporating small faith-based and community organizations (defined as organizations with social services budgets of approximately $300,000 or seven (7) or fewer full-time employees) into their outreach plans. Project orientation workshops conducted by grantees have been an effective means of sharing information and informing the community of the availability of other services; they are encouraged but not mandatory. Rather, grantees and/or sub-awardees/contractors will have the flexibility to attend service provider meetings, seminars, and conferences, to outstation staff, and to develop individual service contracts as well as to involve other agencies in program planning.

The grantee and/or sub-awardees/contractors collectively will be responsible for providing project awareness, program information, and orientation activities to the following:

A. Direct providers of services to homeless veterans including shelter and soup kitchen operators: to make them aware of the services available to homeless veterans to make them job-ready and to aid their placement into jobs.

B. Federal, State, and local entitlement and social service agencies such as the Social Security Administration (SSA), Department of Veterans Affairs (DVA), State Workforce Agencies (SWAs) and their local One-Stop Centers (which integrate Workforce Investment Act (WIA), labor exchange, and other employment and social services), mental health services, and healthcare detoxification facilities: to familiarize them with the nature and needs of homeless veterans.

C. Civic and private sector groups, in particular Veterans' Service Organizations, support groups, job training and employment services, and community-based organizations including faith-based organizations: to provide information on homeless veterans and their needs.

The grantee and/or sub-awardees/contractors collectively will also be responsible for participating in “Stand Down” events. A “Stand Down” is an event held in a locality, usually for three (3) days, where services are provided to homeless veterans along with shelter, meals, clothing, employment services, and medical attention. This type of event is mostly a volunteer effort, which is organized within a community and brings service providers together such as the Department of Veterans Affairs (DVA), Disabled Veterans' Outreach Program Specialists (DVOPs) and Local Veterans' Employment Representatives (LVERs) from the State Workforce Agencies, Veteran Service Organizations, military personnel, civic leaders, and a variety of other interested persons, groups, and organizations. Many services are provided on-site with referrals also made for continued assistance after the Stand Down event. These events can often be the catalyst that enables homeless veterans to get back into mainstream society. The Department of Labor has supported replication of these events and many have been held throughout the nation.

In areas where an HVRP is operating, grantees and/or sub-awardees/contractors collectively are encouraged and expected to participate fully and offer their services for all locally planned Stand Down event(s). Toward this end, up to $5,000 of the currently requested HVRP grant funds may be used to supplement the Stand Down efforts, where funds are not otherwise available, and may be requested in the budget and explained in the budget narrative.

3. Scope of Program Design

The overall project design must include the following services:

A. Outreach, intake, assessment, peer counseling to the degree practical, employment services, and follow-up support services to enhance retention in employment. Program staff providing outreach services should have experience in dealing with, and an understanding of the needs of homeless veterans.

B. Provision of or referral to employment services such as: job search workshops, job counseling, assessment of skills, resume writing techniques, interviewing skills, subsidized trial employment (work experience), job development services, job placement into unsubsidized employment, job placement follow-up services to enhance retention in employment.

C. Provision of or referral to training services such as: basic skills instruction, remedial education activities, life skills and money management training, on-the-job training, classroom training, vocational training, specialized and/or licensing training programs, and other formal training programs as deemed appropriate to benefit the participant. At least 80% of the enrolled HVRP participants must participate in training activities.

D. Grantees and/or sub-awardees/contractors will perform a preliminary assessment of each participant's eligibility for Department of Veterans Affairs (DVA) service-connected disability, compensation, and/or pension benefits. As appropriate, grantees and/or sub-awardees/contractors will work with the Veterans Service Organizations (VSOs) or refer the participants to DVA in order to file a claim for compensation or pension. Grantees and/or sub-awardees/contractors will track progress of claims and report outcomes in case management records.

E. Coordination with veterans' services programs, including: Disabled Veterans' Outreach Program Specialists (DVOPs) and Local Veterans' Employment Representatives (LVERs) in the local employment service delivery system, as well as Veterans' Workforce Investment Programs (VWIPs), DVA services, including its Health Care for Homeless Veterans, Domiciliary Care, Regional Benefits Assistance Program, and Transitional Housing under Homeless Provider Grant and per diem programs.

F. Networking with Veterans' Service Organizations such as: The American Legion, Disabled American Veterans, Veterans of Foreign Wars, Vietnam Veterans of America, the American Veterans (AMVETS).

G. Referral as necessary to health care, counseling, and rehabilitative services including, but not limited to: alcohol and drug rehabilitation, therapeutic services, Post Traumatic Stress Disorder (PTSD) services, mental health services as well as coordination with McKinney Homeless Assistance Act (MHAA) Title VI programs for health care for the homeless, and health care programs under the Homeless Veterans Comprehensive Assistance Act of 2001.

H. Referral to housing assistance, as appropriate, provided by: local shelters, Federal Emergency Management Administration (FEMA) food and shelter programs, transitional housing programs and single room occupancy housing programs funded under MHAA Title IV (and under HVCAA), and permanent housing programs for disabled homeless persons funded under MHAA Title IV (and under HVCAA).

4. Results-Oriented Model

No specific model is mandatory, but the applicant and/or sub-awardees/contractors must collectively design a program that is responsive to the needs of the local community and achieves the overall objectives of the HVRP program. The HVRP objectives are to successfully reintegrate homeless veterans into the workforce and to stimulate the development of effective service delivery systems that will address the complex problems facing homeless veterans.

Under the Government Performance and Results Act (GPRA), Congress and the public are looking for program results rather than program processes. The outcome measurement established for HVRP grants is for grantees and/or sub-awardees/contractors to collectively meet a minimum entered employment rate of 58%, determined by dividing the number of entered employments by the number of HVRP enrollments. (Actual performance outcomes will be reported quarterly in spreadsheet format to be provided to grantees at the post award conference.) While the percentage of HVRP enrollments that entered employment is an important outcome, it is also necessary to evaluate and measure the program's long-term results, through the 90-day and 180-day follow-up period, to determine the quality and success of the program.

The applicants and/or sub-awardees/contractors program should be based on a results-oriented model. The first phase of activity should consist of the level of outreach necessary to introduce the program to eligible homeless veterans. Outreach also includes establishing contact with other agencies that encounter homeless veterans. Once the eligible homeless veterans have been identified, an assessment must be made of each individual's abilities, interests, needs, and barriers to employment. In some cases, participants may require referrals to services such as rehabilitation, drug or alcohol treatment, or a temporary shelter before they can be enrolled into HVRP. Once the eligible homeless veteran is “stabilized,” the assessment must concentrate on the employability of the individual and whether the individual is to be enrolled into the HVRP program. A determination should be made as to whether the individual would benefit from pre-employment preparation such as resume writing, job search workshops, employment related counseling, and case management, or possibly an initial entry into the job market through temporary jobs. Additionally, sheltered work environments, classroom training, and/or on-the-job training must be evaluated. Such services should be noted in an Employability Development Plan to facilitate the staff's successful monitoring of the plan. Entry into full-time employment or a specific job-training program should follow, in keeping with the ultimate objective of HVRP, to bring the participant closer to self-sufficiency. Supportive services may assist the HVRP enrolled participant at this point or even sooner.

Job development, a crucial part of the employability process, is usually when there are no competitive job openings that the HVRP enrolled participant is qualified to apply for, therefore, a job opportunity is created or developed specifically for that HVRP enrolled participant with an employer. HVRP enrolled participants who are ready to enter employment and/or who are in need of intensive case management services are to be referred to the DVOP and LVER staff at a local One-Stop Office. DVOP and LVER staff are able to provide HVRP enrolled participants the following services: job development, employment services, case management and career counseling. Most DVOP and LVER staff received training in case management at the National Veterans' Training Institute. All DVOP and LVER staff provide employment related services to veterans who are most at a disadvantage in the labor market. VETS' urges working hand-in-hand with DVOP/LVER staff to achieve economies of resources.

The applicant and/or sub-awardees/contractors program must include tracking of program participants. Tracking should begin with the referral to employment and continue through the 90-day and 180-day follow-up periods after entering employment to determine whether the veteran is in the same or similar job. It is important that the grantee and/or sub-awardees/contractors maintain contact with veterans after placement to ensure that employment-related problems that may arise are addressed. The 90-day and 180-day follow-ups are fundamental to assessing the results of the program success. Grantee and/or sub-awardees/contractors need to budget for 90-day and 180-day follow-up activity so that it can be performed for those enrolled participants placed at or near the end of the grant performance period. All grantees and/or sub-awardees/contractors, prior to the end of the grant performance period, must obligate sufficient funds to ensure that follow-up activities are completed. Such results will be reported in the final technical performance report.

II. Award Information

1. Type of Funding Instrument: One (1) year grant.

2. Funding Levels: The total funding available for this Intermediaries HVRP solicitation is up to $1,500,000. Awards are expected to range from $100,000 to a maximum of $250,000. The Department of Labor reserves the right to negotiate the amounts to be awarded under this competition. Please be advised that requests exceeding $250,000 will be considered non-responsive.

3. Period of Performance: The period of performance will be for twelve (12) months from date of award unless modified by the Grant Officer. It is expected that successful applicants and/or sub-awardees/contractors will begin program operations under this solicitation on July 1, 2004. All program funds must be obligated by June 30, 2005; a limited amount of funds may be obligated and reserved for follow-up activities and closeout.

4. Optional Year(s) Funding: Should Congress appropriate additional funds for this purpose, VETS may consider two (2) optional years of funding. The Government does not, however, guarantee optional year(s) funding for any grantee (or sub-awardees/contractors). In deciding whether to exercise any optional year funding, VETS will consider grantee (including sub-awardees/contractors) overall performance during the previous period of operations as follows:

A. The grantee and/or sub-awardees/contractors collectively must meet, at minimum, 85% of the planned goals for Federal expenditures, enrollments, and placements in each quarter and/or at least 85% of planned cumulative goals by the end of the third quarter; and

B. The grantee and sub-awardees/contractors must be in compliance with all terms identified in the Solicitation for Grant Application (SGA) and grant award document; and

C. All program and fiscal reports must have been submitted by the established due date and must be verifiable for accuracy.

III. Eligibility Information

1. Eligible Applicants: Applications for funds will be accepted from State and local Workforce Investment Boards, local public agencies, for-profit/commercial entities, and nonprofit organizations, including faith-based and community organizations. Applicants and their sub-awardees/contractors must have a familiarity with the area and population to be served and the ability to administer an effective and timely program. Applicants must also have established connections to and working relationships with grassroots faith-based and community organizations, and have the ability to connect those smaller organizations and the people they serve to the local employment service delivery system.

Eligible applicants will generally fall into one of the following categories:

• State and local Workforce Investment Boards (WIBs), established under sections 111 and 117 of the Workforce Investment Act.

• Public agencies, meaning any public agency of a State or of a general purpose political subdivision of a State that has the power to levy taxes and spend funds, as well as general corporate and police powers. (This typically refers to cities and counties.) A State agency may propose in its application to serve one or more of the potential jurisdictions located in its State. This does not preclude a city or county agency from submitting an application to serve its own jurisdiction.

• For-profit/commercial entities.

• Nonprofit organizations. If claiming 501(c)(3) status, the Internal Revenue Service statement indicating 501(c)(3) status approval must be submitted.

To be eligible for a sub-award/contract from an Intermediary Grantee, an organization must be a local, grassroots non-profit entity that:

• Have social services as a major part of their mission; and

• Are headquartered in the local community to which they provide these services; and

• Have a total annual operating budget of $300,000 or less or have seven (7) or fewer full-time equivalent employees.

Note: Qualifying applications from grantees in the below listed States that are not currently receiving HVRP funds may receive priority funding over applicants in those States that are currently receiving HVRP funds: Alaska, Arkansas, Delaware, Georgia, Idaho, Kansas, Mississippi, Montana, Nebraska, New Hampshire, North Dakota, Rhode Island, South Dakota, Utah, Vermont, Virginia, West Virginia, and Wyoming.

2. Cost Sharing: Cost sharing and/or matching funds are not required. However, we do encourage the use of leveraging and/or matching funds.

3. Other Eligibility Criteria:

A. This SGA is for Intermediaries HVRP grants. Separate SGAs for urban and non-urban HVRP grants have been simultaneously issued.

B. The proposal must include an outreach component that uses either DVOP/LVER staff or a trained outreach cadre. Programs must be “employment focused.” The services provided must be directed toward: (1) Increasing the employability of homeless veterans through training or arranging for the provision of services that will enable them to work; and (2) matching homeless veterans with potential employers.

C. Applicants are encouraged to utilize, through partnerships or sub-awards/contracts, experienced public agencies, private nonprofit organizations, private businesses, faith-based and community organizations, and colleges and universities (especially those with traditionally high enrollments of minorities) that have an understanding of unemployment and the barriers to employment unique to homeless veterans, a familiarity with the area to be served, and the capability to effectively provide the necessary services.

D. To be eligible for enrollment under this grant an individual must be homeless and a veteran defined as follows:

• The term “homeless or homeless individual” includes persons who lack a fixed, regular, and adequate nighttime residence. It also includes persons whose primary nighttime residence is either a supervised public or private shelter designed to provide temporary living accommodations; an institution that provides a temporary residence for individuals intended to be institutionalized; or a public or private place not designed for, or ordinarily used as, a regular sleeping accommodation for human beings. [42 U.S.C. 11302(a)].

• The term “veteran” means a person who served in the active military, naval, or air service, and who was discharged or released under conditions other than dishonorable. [38 U.S.C. 101(2)]

IV. Application and Submission Information

1. Address To Request an Application and Amendments: Application announcements or forms will not be mailed. The Federal Register may be obtained from your nearest government office or library. Additional application packages may be obtained from the VETS Web site at http://www.dol.gov/vets and at http://www.fedgrants.gov/. The application forms and their instructions, and other pertinent materials are included in the Appendices. If copies of the standard forms are needed, they can also be downloaded from: http://www.whitehouse.gov/omb/grants/grants_forms.html.

To receive amendments to this Solicitation, all applicants must register their name and address in writing with the Grant Officer at the following address: U.S. Department of Labor, Procurement Services Center, Attn: Cassandra Mitchell, Reference SGA 04-05, 200 Constitution Avenue, NW., Room N-5416, Washington, DC 20210, Phone Number: (202) 693-4570 (not a toll free number).

2. Content and Form of Application: The grant application must consist of three (3) separate and distinct sections: the Executive Summary, the Technical Proposal, and the Cost Proposal. The information provided in these three (3) sections is essential to gain an understanding of the programmatic and fiscal contents of the grant proposal.

A complete grant application package must include:

• An original blue ink-signed and two (2) copies of the cover letter.

• An original and two (2) copies of the Executive Summary (see below).

• An original and two (2) copies of the Technical Proposal (see below) that includes a completed Technical Performance Goals Form (Appendix D).

• An original and two (2) copies of the Cost Proposal (see below) that includes an original blue ink-signed Application for Federal Assistance, SF-424 (Appendix A), a Budget Narrative, Budget Information Sheet SF-424A (Appendix B), an original blue ink-signed and Assurances and Certifications Signature Page (Appendix C), and Direct Cost Description for Applicants and Sub-applicants (Appendix E), and a completed Survey on Ensuring Equal Opportunity for Applicants (Appendix F).

A. Section 1—Executive Summary: A one to two page “Executive Summary” reflecting the grantees overall strategy, timeline, and outcomes to be achieved in their grant proposal is required. This executive summary does not count against the 15-page limit. The executive summary should include:

• The proposed area to be served through the activities of this grant.

• Years of grantee's service to the residents in the proposed area to be served.

• Projects and activities that will expedite the reintegration of homeless veterans into the workforce.

• Summary of outcomes, benefits, and value added by the project.

B. Section 2—Technical Proposal consists of a narrative proposal that demonstrates the need for this particular grant program, the services and activities proposed to obtain successful outcomes for the homeless veterans to be served; and the applicants' and/or sub-awardees'/contractors' ability to collectively accomplish the expected outcomes of the proposed project design.

The technical proposal narrative must not exceed fifteen (15) pages double-spaced, font size no less than 11 pt., and typewritten on one (1) side of the paper only. Note: Resumes, charts, standard forms, transmittal letters, Memorandums of Understanding, agreements, lists of contracts and grants, letters of support are not included in the page count. If provided, include these documents as attachments to the technical proposal.

Required Content: There are program activities that all applications must contain to be found technically acceptable under this SGA. Programs must be “employment focused” and must be responsive to the rating criteria in Section V(1). The required activities are: outreach, pre-enrollment assessments, employment development plans for all clients, case management, job placement and job retention follow-up (at 90 and 180 days) after individual enters employment, utilization/coordination of services with DVOP and LVER staff, and community linkages with other programs and services that provide support to homeless veterans.

The following format for the technical proposal is recommended:

Need for the program: The applicant must identify the geographical area to be served and provide an estimate of the number of homeless veterans in the designated geographical area. Include poverty and unemployment rates in the area and identify the disparities in the local community infrastructure that exacerbate the employment barriers faced by the targeted veterans. Include labor market information and job opportunities in the employment fields and industries that are in demand in the geographical area to be served.

Approach or strategy to increase employment and job retention: Applicants must be responsive to the Rating Criteria contained in Section V(1) and address all of the rating factors as thoroughly as possible in the narrative. The applicant must:

• Describe the specific supportive employment and training services to be provided under this grant and the sequence or flow of such services;

• Indicate the type(s) of training that will be provided and how it relates to the jobs that are in demand, length of training, training curriculum, and how the training will improve the eligible veterans' employment opportunities within that geographical area;

• Provide a follow-up plan that addresses retention after 90 and 180 days with participants who have entered employment;

• Include the completed Planned Quarterly Technical Performance Goals (and planned expenditures) form listed in Appendix D.

Linkages with facilities that serve homeless veterans: Describe program and resource linkages with other facilities that will be involved in identifying potential clients for this program. Describe any networks with other related resources and/or other programs that serve homeless veterans. Indicate how the program will be coordinated with any efforts that are conducted by public and private agencies in the community. If a Memorandum of Understanding (MOU) or other service agreement with service providers exists, copies should be provided.

Linkages with other providers of employment and training services to homeless veterans: Describe the networks the program will have with other providers of services to homeless veterans; include a description of the relationship with other employment and training programs such as Disabled Veterans' Outreach Program (DVOP), the Local Veterans' Employment Representative (LVER) program, and programs under the Workforce Investment Act such as the Veterans' Workforce Investment Program (VWIP); and list the type of services that will be provided by each. Note the type of agreement in place, if applicable. Linkages with the workforce development system must be delineated. Describe any networks with any other resources and/or other programs for homeless veterans. Indicate how the program will be coordinated with any efforts for the homeless that are conducted by agencies in the community. Indicate how the applicant and/or sub-awardees/contractors will coordinate with any “continuum of care” efforts for the homeless among agencies in the community. If a Memorandum of Understanding (MOU) or other service agreements with other service providers exists, copies should be provided.

Linkages with other Federal agencies: Describe program and resource linkages with the Department of Housing and Urban Development (HUD), Department of Health and Human Services (HHS), and Department of Veterans Affairs (DVA) including the Compensated Work Therapy (CWT) and per diem programs. If a Memorandum of Understanding (MOU) or other service agreements with other service providers exists, copies should be provided.

Proposed supportive service strategy for veterans: Describe how supportive service resources for veterans will be obtained and used. If resources are provided by other sources or linkages, such as Federal, State, local, faith-based and community organization programs or colleges and universities, including those with traditionally high enrollments of minorities, the applicant must fully explain the use of these resources and how they will be applied. If a Memorandum of Understanding (MOU) or other service agreements with other service providers exists, copies should be provided.

Organizational capability to provide required program activities: The applicant's relevant current or prior experience in operating employment and training programs should be clearly described. A summary narrative of program experience and employment and training performance outcomes is required. The applicant should provide information showing outcomes of all past employment and training programs in terms of enrollments and placements. An applicant that had operated a HVRP, other Homeless Employment and Training program, or VWIP program must include the final or most recent technical performance reports. The applicant must also provide evidence of key staff capability. It is preferred that grantee be well established and not in the start-up phase or process.

Proposed housing strategy for homeless veterans: Describe how housing resources for eligible homeless veterans will be obtained or accessed. These resources must be from linkages or sources other than the HVRP grant such as HUD, HHS, community housing resources, DVA leasing, or other programs.

C. Section 3—The Cost Proposal must contain the following: (1) Standard Form SF-424, “Application for Federal Assistance,” (with the original signed in blue-ink) (Appendix A) must be completed;

The Catalog of Federal Domestic Assistance number for this program is 17.805 and it must be entered on the SF-424, in Block 10.

The organizational unit section of Block 5 of the SF-424 must contain the Dun and Bradstreet Number (DUNS) of the applicant. Beginning October 1, 2003, all applicants for Federal grant funding opportunities are required to include a DUNS number with their application. See OMB Notice of Final Policy Issuance, 68 Federal Register 38402 (June 27, 2003). Applicants' DUNS number should be entered into Block 5 of SF-424. The DUNS number is a nine-digit identification number that uniquely identifies business entities. There is no charge for obtaining a DUNS number. To obtain a DUNS number call 1-866-705-5711 or access the following Web site: http://www.dunandbradstreet.com/. Requests for exemption from the DUNS number requirement must be made to the Office of Management and Budget.

(2) A completed Standard Form SF-424A “Budget Information Sheet” (Appendix B) must be included;

(3) As an attachment to SF-424A, the applicant must provide a detailed cost breakout of each line item on the Budget Information Sheet. Please label this page or pages the “Budget Narrative” and ensure that costs reported on the SF-424A correspond accurately with the Budget Narrative;

The Budget Narrative must include, at a minimum:

• Breakout of all personnel costs by position, title, salary rates, and percent of time of each position to be devoted to the proposed project (including sub-awardees/contractors) by completing the “Direct Cost Descriptions for Applicants and Sub-Applicants” form (Appendix E);

• Explanation and breakout of extraordinary fringe benefit rates and associated charges (i.e., rates exceeding 35% of salaries and wages);

• Explanation of the purpose and composition of, and method used to derive the costs of, each of the following: travel, equipment, supplies, sub-awards/contracts, and any other costs. The applicant must include costs of any required travel described in this Solicitation. Mileage charges may not exceed 37.5 cents per mile or the current Federal rate;

• All associated costs for retaining participant information pertinent to the follow-up survey, 180 days after the program performance period ends;

• Description/specification of, and justification for, equipment purchases, if any. Tangible, non-expendable, personal property having a useful life of more than one year and a unit acquisition cost of $5,000 or more per unit must be specifically identified; and

• Identification of all sources of leveraged or matching funds and an explanation of the derivation of the value of matching/in-kind services. If resources/matching funds and/or the value of in-kind contributions are made available, please show in Section B of the Budget Information Sheet.

(4) A completed Assurance and Certification signature page (Appendix C) must be submitted;

(5) All applicants must submit evidence of satisfactory financial management capability, which must include recent (within the last 18 months) financial and/or audit statements. Grantees and sub-awardees/contractors are required to utilize Generally Accepted Accounting Practices (GAAP), maintain a separate accounting for these grant funds, and have a checking account;

(6) All applicants must include, as a separate appendix, a list of all employment and training government grants and contracts that it has had in the past three (3) years, including grant/contract officer contact information. VETS reserves the right to have a DOL representative review and verify this data;

(7) A completed Survey on Ensuring Equal Opportunity for Applicants (Appendix F) must be provided.

3. Submission Dates and Times (Acceptable Methods of Submission): The grant application package must be received at the designated place by the date and time specified or it will not be considered. Any application received at the Office of Procurement Services after 4:45 p.m. e.t., May 13, 2004, will not be considered unless it is received before the award is made and:

• It is determined by the Government that the late receipt was due solely to mishandling by the Government after receipt at the U.S. Department of Labor at the address indicated; or

• It was sent by registered or certified mail not later than the fifth calendar day before May 13, 2004; or

• It was sent by U.S. Postal Service Express Mail Next Day Service-Post Office to Addressee, not later than 5:00 p.m. at the place of mailing two (2) working days, excluding weekends and Federal holidays, prior to May 13, 2004.

4. Intergovernmental Review: Not Applicable.

5. Funding Restrictions:

A. Proposals exceeding $250,000 will be considered non-responsive.

B. There is a limit of one (1) application per submitting organization and location. If two (2) applications from the same organization for the same location are submitted, the application with the later date will be considered non-responsive.

C. Due to the limited availability of funding, if an organization was awarded Fiscal Year 2003 HVRP funds for a specific location and will be receiving second and possible third year funding, that organization at that specific location will be considered ineligible to compete for FY 2004 HVRP funds.

D. There will not be reimbursement of pre-award costs unless specifically agreed upon in writing by the Department of Labor.

E. Entities described in section 501(c)(4) of the Internal Revenue Code that engage in lobbying activities are not eligible to receive funds under this announcement because section 18 of the Lobbying Disclosure Act of 1995, Public Law 104-65, 109 Stat. 691, prohibits the award of Federal funds to these entities.

F. The government is prohibited from directly funding religious activity.* HVRP grants may not be used for religious instruction, worship, prayer, proselytizing or other inherently religious practices. Neutral, secular criteria that neither favor nor disfavor religion must be employed in the selection of grant and sub-awardees/contractors grant recipients. In addition, under the Workforce Investment Act (WIA) and Department of Labor regulations implementing the WIA, a recipient may not train a participant in religious activities, or permit participants to construct, operate, or maintain any part of a facility that is primarily used or devoted to religious instruction or worship. Under WIA, “no individual shall be excluded from participation in, denied the benefits of, subjected to discrimination under, or denied employment in the administration of or in connection with, any such program or activity because of race, color, religion, sex (except as otherwise permitted under Title IX of the Education Amendments of 1972), national origin, age, disability, or political affiliation or belief.”

* The term “direct” funding is used to describe funds that are provided “directly” by a governmental entity or an intermediate organization with the same duties as the government entity, as opposed to funds that an organization receives as the result of the genuine and independent private choice of a beneficiary. In other contexts, the term “direct” funding may be used to refer to those funds that an organization receives directly from the Federal government (also known as “discretionary” funding), as opposed to funding that it receives from a State or local government (also known as “indirect” or “block grant” funding). In this SGA, the term “direct” has the former meaning.

G. Limitations on Administrative and Indirect Costs:

• Administrative costs, which consist of all direct and indirect costs associated with the supervision and management of the program, are limited to and will not exceed 20% of the total grant award.

• Indirect costs claimed by the applicant must be based on a Federally approved rate. A copy of the negotiated approved and signed indirect cost negotiation agreement must be submitted with the application. Furthermore, indirect costs are considered a part of administrative costs for HVRP purposes and, therefore, may not exceed 20% of the total grant award.

• If the applicant does not presently have an approved indirect cost rate, a proposed rate with justification may be submitted. Successful applicants will be required to negotiate an acceptable and allowable rate within 90 days of grant award with the appropriate DOL Regional Office of Cost Determination or with the applicant's cognizant agency for indirect cost rates (See Office of Management and Budget Web site at http://www.whitehouse.gov/omb/grants/atttach.html).

• Indirect cost rates traceable and trackable through the State Workforce Agency's Cost Accounting System represent an acceptable means of allocating costs to DOL and, therefore, can be approved for use in grants to State Workforce Agencies.

6. Other Submission Requirements: The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by other delivery services, such as Federal Express, UPS, etc., will also be accepted.

All applicants are advised that U.S. mail delivery in the Washington, DC, area has been erratic due to security and anthrax concerns. All applicants must take this into consideration when preparing to meet the application deadline, as you assume the risk for ensuring a timely submission, that is, if, because of these mail problems, the Department does not receive an application or receives it too late to give proper consideration, even if it was timely mailed, the Department is not required to consider the application.

V. Application Review Information

1. Application Evaluation Criteria

Applications will receive up to 100 total points based on the following criteria:

A. Need for the Project: 10 Points

The applicant will document the need for this project, as demonstrated by: (i) The potential number or concentration of homeless individuals and homeless veterans in the proposed project area relative to other similar areas of jurisdiction, (ii) the rates of poverty and/or unemployment in the proposed project area as determined by the census or other surveys; and (iii) the extent of the gaps in the local infrastructure to effectively address the employment barriers that characterize the target population.

B. Overall Strategy To Increase Employment and Retention in Employment: 35 Points

The application must include a description of the approach to providing comprehensive employment and training services, including job training, job development, obtaining employer commitments to hire, placement and post-placement follow-up services. Applications must address how they will target occupations in emerging industries. Supportive services provided as part of the strategy of promoting job readiness and job retention must be indicated. The applicant must identify the local services and sources of training to be used for participants. At least 80% of enrolled participants must participate in training services. A description of the relationship, if any, with other employment and training programs such as State Workforce Agencies (including DVOP and LVER Programs), One-Stops, VWIP, other WIA programs, and Workforce Investment or Development Boards or entities where in place, must be specified. Applications must indicate how the activities will be tailored or responsive to the needs of homeless veterans. A participant flow chart may be used to show the sequence and mix of services.

Note: The applicant must complete Appendix D, the Technical Performance Goals Form, with proposed programmatic outcomes, including participants served, placement/entered employments and job retention. Of the 35 points possible in the strategy to increase employment and retention, 5 points will be awarded to grant proposals that demonstrate the ability to maintain a six-month employment retention rate of 50 percent or greater. Applicants whose applications persuasively propose to use peer counselors who are themselves veterans will be awarded five (5) of the available points in the scoring criteria.

C. Quality and Extent of Linkages With Other Providers of Services to the Homeless and to Veterans: 20 Points

The application must provide information on the quality and extent of the linkages this program will have with other providers of services to homeless veterans in the local community including faith-based and community organizations. For each service, the applicant must specify who the provider is, the source of funding (if known), and the type of linkages/referral system established or proposed. Describe, to the extent possible, how the project would be incorporated into the community's continuum of care approach to respond to homelessness and show any linkages to HUD, HHS or DVA programs that will be advantageous to the proposed program.

D. Demonstrated Capability in Providing Required Program Services, Including Programmatic Reporting and Participant Tracking: 25 Points

The applicant must describe its relevant prior experience in operating employment and training programs and providing services to participants similar to those that are proposed under this solicitation. Specific outcomes previously achieved by the applicant and/or sub-awardees/contractors must be described, such as job placements, benefits secured, network coalitions, etc. The applicant and/or sub-awardees/contractors must also address its capacity for timely startup of the program, programmatic reporting, and participant tracking. The applicant and/or sub-awardees/contractors should describe its staff experience and ability to manage the administrative, programmatic and financial aspects of a grant program. Include a recent (within the last 18 months) financial statement or audit. Final or most recent technical reports for other relevant employment and training programs must be submitted, if applicable. Because prior HVRP grant experience is not a requirement for this grant, some applicants may not have any technical performance reports to submit.

E. Quality of Overall Housing Strategy: 10 Points

The application must demonstrate how the applicant and/or sub-awardees/contractors propose to obtain or access housing resources for veterans in the program and entering the labor force. This discussion should specify the provisions made to access temporary, transitional, and permanent housing for participants through community resources, HUD, DVA lease, or other means. HVRP funds may not be used for housing or vehicles.

2. Review and Selection Process

Applications will initially be screened to ensure timeliness, completeness, and responsiveness to the SGA requirements. Applications that satisfy this initial screening will receive further review as explained below.

Technical proposals will be reviewed by a Department of Labor review panel using the point scoring system specified above in Section V(1). The review panel will assign scores after careful evaluation by each panel member and rank applications based on this score. The ranking will be the primary basis to identify applicants as potential grantees. The review panel may establish a competitive range and/or a minimum qualifying score, based upon the proposal evaluation, for the purpose of selecting qualified applicants. The review panel's conclusions are advisory in nature and not binding on the Grant Officer.

Cost proposals will be considered in two (2) ways. The Department of Labor review panel will screen all applicant cost proposals to ensure expenses are allocable, allowable, and reasonable. If the review panel concludes that the cost proposal contains an expense(s) that is not allocable, allowable, and/or reasonable, the application may be considered ineligible for funding. Further, VETS and the Grant Officer will consider applicant information concerning the proposed cost per placement, percentage of participants placed into unsubsidized employment, average wage at placement, and 180-day retention in employment percentage. The national average cost per placement for HVRP for last year was $2,100.

The Government reserves the right to ask for clarification on any aspect of a grant application. The Government also reserves the right to discuss any potential grantee concerns amongst Department of Labor staff. The Government further reserves the right to select applicants out of rank order if such a selection would, in its opinion, result in the most effective and appropriate combination of funding, program, and administrative costs, e.g., cost per enrollment and placement, demonstration models, and geographic service areas. The Grant Officer's determination for award under SGA 04-05 is the final agency action. The submission of the same proposal from any prior year HVRP competition does not guarantee an award under this Solicitation.

VI. Award Administration Information

1. Award Notices

A. The Notice of Award signed by the Grant Officer is the authorizing document and will be provided through postal mail and/or by electronic means to the authorized representative as listed on the SF-424 Grant Application. Notice that an organization has been selected as a grant recipient does not constitute approval of the grant application as submitted. Before the actual grant award, the Grant Officer may enter into negotiations concerning such items as program components, funding levels, and administrative systems. If the negotiations do not result in an acceptable submittal, the Grant Officer reserves the right to terminate the negotiation and decline to fund the proposal.

B. A post-award conference will be held for those grantees awarded FY 2004 HVRP funds through this competition. The post-award conference is expected to be held in July or August 2004. Up to two (2) representatives must be present; a financial and a program representative are recommended. The site of the post-award conference has not yet been determined, however, for planning and budgeting purposes, please allot five (5) days and use Washington, DC, as the conference site. The post-award conference will focus on providing information and assistance on reporting, record keeping, grant requirements, and also include best practices from past projects. Costs associated with attending this conference for up to two grantee representatives will be allowed as long as they were incurred in accordance with Federal travel regulations. Such costs must be charged as administrative costs and reflected in the proposed budget.

2. Administrative and National Policy Requirements

Unless specifically provided in the grant agreement, DOL's acceptance of a proposal and an award of Federal funds to sponsor any program(s) does not provide a waiver of any grant requirements and/or procedures. For example, the OMB circulars require that an entity's procurement procedures must provide all procurement transactions will be conducted, as practical, to provide open and free competition. If a proposal identifies a specific entity to provide the services, the DOL award does not provide the justification or basis to sole-source the procurement, i.e., avoid competition. All grants will be subject to the following administrative standards and provisions, as applicable to the particular grantee and/or sub-awardees/contractors:

• 29 CFR part 93—Lobbying.

• 29 CFR part 95—Uniform Administrative Requirements for Grants and Agreements with Institutions of Higher Education, Hospitals, and other Nonprofit Organizations, and with Commercial Organizations.

• 29 CFR part 96—Federal Standards for Audit of Federally Funded Grants, Contracts and Agreements.

• 29 CFR part 97—Uniform Administrative Requirements for Grants and Cooperative Agreements to State and Local Governments.

• 29 CFR part 98—Federal Standards for Government-wide Debarment and Suspension (Non procurement) and Government-wide Requirements for Drug-Free Workplace (Grants).

• 29 CFR part 99—Audit of States, Local Governments, and Nonprofit Organization.

• 29 CFR parts 30, 31, 32, 33 and 36—Equal Employment Opportunity in Apprenticeship and Training; Nondiscrimination in Federally Assisted Programs of the Department of Labor, Effectuation of Title VI of the Civil Rights Act of 1964; Nondiscrimination on the Basis of Handicap in Programs and Activities; and Nondiscrimination on the Basis of Sex in Education Programs Receiving or Benefiting from Federal Financial Assistance.

3. Reporting

The grantee will submit the reports and documents listed below:

A. Quarterly Financial Reports

No later than 30 days after the end of each Federal fiscal quarter, the grantee must report outlays, program income, and other financial information (including sub-awardees/contractors information) on a federal fiscal quarterly basis using SF-269A, Financial Status Report, Short Form and submit a copy of the HHS/PMS 272 drawdown report. These reports must cite the assigned grant number and be submitted to the appropriate State Director for Veterans' Employment and Training (DVET).

B. Quarterly Program Reports

No later than 30 days after the end of the Federal fiscal quarter, grantees also must submit a Quarterly Technical Performance Report (including sub-awardees/contractors information) to the DVET that contains the following:

(1) A comparison of actual accomplishments to planned goals for the reporting period in spreadsheet format (to be provided after grant award) and any findings related to monitoring efforts;

(2) An explanation for variances of plus or minus 15% of planned program and/or expenditure goals, to include: Identification of a corrective action that will be taken to meet the planned goals, if required; and a timetable for accomplishment of the corrective action.

C. 90-Day Follow-Up Report

No later than 120 days after the grant performance period expiration date, the grantee must submit a follow-up report (including sub-awardees/contractors information) showing results and performance as of the 90th day after the grant period, and containing the following:

(1) Final Financial Status Report SF-269A Short Form (that zeros out all unliquidated obligations); and

(2) Technical Performance Report including updated goals chart.

D. 180-Day Follow-Up Report

No later than 210 days after the grant performance expiration date, the grantee must submit a follow-up report (including sub-awardees/contractors information) showing the results and performance as of the 180th day after the grant period, and containing the following:

(1) Final Financial Status Report SF-269A Short Form (if not previously submitted); and

(2) Final Narrative Report identifying:

(a) The total combined (directed/assisted) number of veterans placed into employment during the entire grant period;

(b) The number of veterans still employed after the 180 day follow-up period;

(c) If the veterans are still employed at the same or similar job, if not, what are the reason(s);

(d) Whether training received was applicable to jobs held;

(e) Wages at placement and during follow-up period;

(f) An explanation regarding why those veterans placed during the grant, but not employed at the end of the follow-up period, are not so employed; and

(g) Any recommendations to improve the program.

VII. Agency Contact

Questions and applications are to be forwarded to: U.S. Department of Labor, Procurement Services Center, Attn: Cassandra Mitchell, Reference SGA 04-05, 200 Constitution Avenue, NW., Room N-5416, Washington, DC 20210, Phone Number: (202) 693-4570 (this is not a toll free number).

Resources for the Applicant: Applicants may review “VETS' Guide to Competitive and Discretionary Grants” located at http://www.dol.gov/vets/grants/Final_VETS_Guide-linked.pdf. Applicants may also find these resources useful: America's Service Locator http://www.servicelocator.org/ provides a directory of our nation's One-Stop Career Centers; the National Association of Workforce Boards maintains an Internet site (http://www.nawb.org/asp/wibdir.asp) that contains contact information for the State and local Workforce Investment Boards; and the homepage for the Department of Labor, Center for Faith-Based & Community Initiatives (http://www.dol.gov/cfbci).

Comments: Comments are to be submitted to the Veterans' Employment and Training Service (VETS), U.S. Department of Labor, Room S-1312, 200 Constitution Avenue, NW., Washington, DC 20210, telephone (202) 693-4701 (this is not a toll free number). Written comments are limited to ten (10) pages or fewer and may be transmitted by facsimile to (202) 693-4755. Receipt of submissions, whether by U.S. mail, e-mail, or facsimile transmittal, will not be automatically acknowledged; however, the sender may request confirmation that a submission has been received, by telephoning VETS at (202) 693-4701 or (202) 693-4753 (TTY/TDD).

Signed at Washington, DC, this 6th day of April, 2004.
Lisa Harvey,
Acting Grant Officer.

Appendices

Appendix A: Application for Federal Assistance SF-424

Appendix B: Budget Information Sheet SF-424A

Appendix C: Assurances and Certifications Signature Page

Appendix D: Quarterly Technical Performance Goals Form

Appendix E: Direct Cost Descriptions for Applicants and Sub-Applicants

Appendix F: Survey on Ensuring Equal Opportunity for Applicants

Appendix G: The Glossary of Terms

Appendix H: List of Common Acronyms

BILLING CODE 4510-79-P

[FR Doc. 04-8187 Filed 4-12-04; 8:45 am]

BILLING CODE 4510-79-C